DEPARTMENT OF STATE

[Public Notice 5330]

Bureau of Intelligence and Research; Advisory Committee for the Study of Eastern Europe and the Independent States of the Former Soviet Union (Title VIII)

The Advisory Committee for the Study of Eastern Europe and the Independent States of the Former Soviet Union (Title VIII) will convene on Wednesday, May 17, 2006 beginning at 9:30 a.m. in Room 1205 of the U.S. Department of State, Harry S. Truman Building, 2201 C Street, NW., Washington, DC.

The Advisory Committee will recommend grant recipients for the FY 2006 competition of the Program for the Study of Eastern Europe and the Independent States of the Former Soviet Union in connection with the “Research and Training for Eastern Europe and the Independent States of the Former Soviet Union Act of 1983, as amended.” The agenda will include opening statements by the Chairman and members of the committee, and, within the committee, discussion, approval and recommendation that the Department of State negotiate grant agreements with certain “national organizations with an interest and expertise in conducting research and training concerning the countries of Eastern Europe and the Independent States of the Former Soviet Union,” based on the guidelines contained in the call for applications published in the Federal Register on November 14, 2005. Following committee deliberation, interested members of the public may make oral statements concerning the Title VIII program in general.

This meeting will be open to the public; however attendance will be limited to the seating available. Entry into the Harry S. Truman building is controlled and must be arranged in advance of the meeting. Those planning to attend should notify the Title VIII Program Office at the U.S. Department of State on (202) 647-0243 by Friday, May 12, 2006, providing the following information: Full Name, Date of Birth, Social Security Number, Country of Citizenship, and any requirements for special needs. All attendees must use the 2201 C Street entrance and must arrive no later than 9:15 a.m. to pass through security before entering the building. Visitors who arrive without prior notification and without photo identification will not be admitted.

Dated: April 14, 2006.
Susan H. Nelson,
Acting Executive Director, Advisory Committee for Studies of Eastern Europe and the Independent States of the Former Soviet Union, Department of State.

[FR Doc. E6-7026 Filed 5-5-06; 8:45 am]

BILLING CODE 4710-32-P